DEPARTMENT OF AGRICULTURE

Food and Nutrition Service

Agency Information Collection Activities: Proposed Collection; Comment Request—Forms FNS-806-A, Claim for Reimbursement (National School Lunch and School Breakfast Programs), and FNS-806-B, Claim for Reimbursement (Special Milk Program for Children)

AGENCY: Food and Nutrition Service, USDA.

ACTION: Notice and request for comments.

SUMMARY: In accordance with the Paperwork Reduction Act of 1995, this notice invites the public to comment on the Food and Nutrition Service (FNS) use of forms FNS-806-A and FNS-806-B, Claims for Reimbursement. The forms are used to collect data to determine the amount of reimbursement school food authorities participating in the National School Lunch Program (NSLP), School Breakfast Program (SBP), and Special Milk Programs for Children (SMP) are eligible to receive.

DATES: Comments on this notice must be received by February 3, 2003, to be assured of consideration.

ADDRESSES: Send comments and requests for copies of this information collection to Mr. Terry Hallberg, Chief, Program Analysis and Monitoring Branch, Child Nutrition Division, Food and Nutrition Service, USDA, 3101 Park Center Drive, Room 640, Alexandria, Virginia 22302.

Comments are invited on: (a) Whether the proposed collection of information is necessary for the proper performance of the functions of the agency, including whether the information will have practical utility; (b) the accuracy, of the agency's estimate of the burden of the proposed collection of information; (c) ways to enhance the quality, utility and clarity of the information to be collected; and (d) ways to minimize the burden of the collection of information on those who are to respond, including use of appropriate automated collection techniques or other forms of information technology.

All responses to this notice will be summarized and included in the request for OMB approval. All comments will also become a matter of public record.

FOR FURTHER INFORMATION CONTACT: Mr. Terry Hallberg at (703) 305-2590.

SUPPLEMENTARY INFORMATION: Title: Forms FNS-806-A, Claim for Reimbursement (National School Lunch, and School Breakfast Programs), and FNS-806-B, Claim for Reimbursement (Special Milk Program).

OMB Numbers: 0584-0284.

Expiration Date: October 31, 2002.

Type of Request: Extension of a currently approved information collection.

Abstract: The NSLP, SBP and SMP claims for reimbursement forms, FNS-806-A and FNS-806-B, are used to collect meal and cost data from school food authorities whose participation in these programs are administered directly by FNS Regional Offices (Regional Office Administered Programs, or ROAP). In order to determine the amount of reimbursement for meals and milk served, the school food authorities are required to complete these forms. The completed forms are submitted to FNS Regional Offices where they are entered into a computerized payment system. The payment system computes earned reimbursement.

Earned reimbursement in the NSLP, SBP and SMP is based on performance that is measured as an assigned rate per meal or half pint of milk served, with cost comparisons for free milk and severe need breakfasts. To fulfill the earned reimbursement requirements set forth in NSLP, SBP and SMP regulations issued by the Secretary of Agriculture (7 CFR 210.8, 220.11,215.10), the meal and cost data must be collected on forms FNS-806-A and FNS-806-B. These forms are an intrinsic part of the accounting system being used currently by the subject programs to ensure proper reimbursement as well as to facilitate adequate recordkeeping.

This request is being made to extend the current information collection for an additional three years. Current methods are the only practical means of collecting this information considering the resources of form users.

The claims for reimbursement for the NSLP and SBP are on the FNS-806-A and the claims for SMP are on the FNS-806-B.

Estimate of Burden: Public reporting burden for this collection of information is estimated to average .5 hours per response.

Respondents: The respondents are school food authorities and facilities participating in the NSLP, SBP and SMP under the observation of the FNS ROAP.

Estimated Number of Respondents—Form 806-A: 209

Estimated Number of Responses per Respondent—Form 806-A: 10

Estimated Total Annual Responses—Form 806-A: 2090

Estimated Time per Response—Form 806-A: .5

Estimated Total Annual Burden—Form 806-A: 1045 hours

Estimated Number of Respondents—Form 806-B: 151

Estimated Number of Responses per Respondent—Form 806-B: 10

Estimated Total Annual Responses—Form 806-B: 1510

Estimated Time per Response—Form 806-B: .5

Estimated Total Annual Burden—Form 806-B: 755 hours

Total Annual Burden: Form 806-A and Form 806-B: 1045 + 755 = 1800 hours

Dated: November 26, 2002.
Roberto Salazar,
Administrator, Food and Nutrition Service.

[FR Doc. 02-30656 Filed 12-3-02; 8:45 am]

BILLING CODE 3410-30-P